DEPARTMENT OF TRANSPORTATION

Federal Aviation Administration

Twenty Seventh RTCA SC-222 Plenary

AGENCY: Federal Aviation Administration (FAA), U.S. Department of Transportation (DOT).

ACTION: Twenty Seventh RTCA SC-222 Plenary.

SUMMARY: The FAA is issuing this notice to advise the public of a meeting of Twenty Seventh RTCA SC-222 Plenary. This is a subcommittee to RTCA.

DATES: The meeting will be held November 2, 2017 08:00 a.m.-10:00 a.m.

ADDRESSES: The meeting will be held Virtually: https://dfs.webex.com/dfs-en/j.php?MTID=md423e5bbfccb25c1fd3c2a8257213ba2, Join by phone, 1-855-299-5224 Call-in toll-free number (US/Canada), 1-631-267-4890 Call-in toll number (US/Canada), Access Code: 956 003 877, Password: Wm2fKCdV.

FOR FURTHER INFORMATION CONTACT: Karan Hofmann at khofmann@rtca.org or 202-330-0680, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Twenty Seventh RTCA SC-222 Plenary. The agenda will include the following:

Thursday, November 2, 2017—8:00 a.m.-10:00 a.m.

1. Welcome, Introductions, Administrative Remarks by Special Committee Leadership

2. Agenda Overview

3. Review/Approve prior Plenary meeting Summary—(action item status)

4. Iridium Technical Discussion

5. Ligado Effects (Possible ISRA with SC-159)

6. Discussion of additional SatCom Class B Work

7. SC-228 IRSA Discussion

8. Detailed Work Plan for SC-222 and WG-82

9. Establish Agenda, Date and Place for next meeting

10. Review of Action Items

11. Adjourn—Plenary meeting

1. Attendance is open to the interested public but limited to space availability. With the approval of the chairman, members of the public may present oral statements at the meeting. Persons wishing to present statements or obtain information should contact the person listed in the FOR FURTHER INFORMATION CONTACT section. Members of the public may present a written statement to the committee at any time. Issued in Washington, DC on September 25, 2017.

Mohannad Dawoud,
Management & Program Analyst, Partnership Contracts Branch, ANG-A17, NextGen, Procurement Services Division, Federal Aviation Administration.

[FR Doc. 2017-20794 Filed 9-27-17; 8:45 am]

BILLING CODE 4910-13-P